ENVIRONMENTAL PROTECTION AGENCY

[FRL-7638-3]

Environmental Financial Advisory Board

AGENCY: Environmental Protection Agency (EPA).

ACTION: Notice of charter renewal.

The Charter for the Environmental Protection Agency's Environmental Financial Advisory Board (EFAB) will be renewed for an additional two-year period in accordance with the provisions of the Federal Advisory Committee Act (FACA), 5 U.S.C. App section 9(c). The purpose of EFAB is to provide advice and recommendations to the Administrator of EPA on issues associated with environmental financing.

Inquiries may be directed to Vanessa Bowie, Team Leader, Environmental Finance Team, U.S. EPA, Ariel Rios Building, 1200 Pennsylvania Ave., NW., Washington, DC 20460 (Mailcode 2731R), Telephone (202) 564-5186, or bowie.vanessa@epa.gov.

Dated: March 11, 2004.
Joseph Dillon,
Director, Office of Enterprise, Technology, and Innovation.

[FR Doc. 04-6311 Filed 3-19-04; 8:45 am]

BILLING CODE 6560-50-P